DEPARTMENT OF ENERGY

Federal Energy Regulatory Commission

[Docket Nos. CP18-37-000;CP18-38-000]

Notice of Availability of the Environmental Assessment for the Sierrita Gas Pipeline LLC Proposed Sierrita Compressor Expansion Project

The staff of the Federal Energy Regulatory Commission (FERC or Commission) has prepared an environmental assessment (EA) for the Sierrita Compressor Expansion Project, proposed by Sierrita Gas Pipeline LLC (Sierrita) in the above-referenced dockets. Sierrita filed an application in Docket No. CP18-37-000 requesting a Certificate of Public Convenience and Necessity pursuant to section 7(c) of the Natural Gas Act to construct and operate certain natural gas pipeline facilities. Specifically, Sierrita requests authorization to construct a new 15,900 horsepower natural gas compressor station on its existing Line No. 2177 pipeline system in Pima County, Arizona. Additionally, in Docket No. CP18-38-000, Sierrita is requesting an amendment to its section 3 authorization and its Presidential Permit.

The EA assesses the potential environmental effects of the construction and operation of the Sierrita Compressor Expansion Project in accordance with the requirements of the National Environmental Policy Act. The FERC staff concludes that approval of the proposed project, with appropriate mitigating measures, would not constitute a major federal action significantly affecting the quality of the human environment.

The proposed Sierrita Compressor Expansion Project includes the following facilities:

• One new 15,900 horsepower compressor station (Sierrita Compressor Station);

• approximately 1,000 feet of suction and discharge piping and various station yard auxiliary facilities to connect the Sierrita Compressor Station with Sierrita's existing Line No. 2177;

• one new 10-inch Ultrasonic meter at the existing San Joaquin Meter Station on Line No. 2177; and

• the relocation of the existing Mainline Valve 2 and an associated inspection tool launcher and receiver from milepost 1.2 to milepost 6.5 on Line No. 2177.

The FERC staff mailed copies of the EA to federal, state, and local government representatives and agencies; elected officials; environmental and public interest groups; Native American tribes; potentially affected landowners and other interested individuals and groups; and newspapers and libraries in the project area. In addition, the EA is available for public viewing on the FERC's website (www.ferc.gov) using the eLibrary link. A limited number of copies of the EA are available for distribution and public inspection at: Federal Energy Regulatory Commission, Public Reference Room, 888 First Street NE, Room 2A, Washington, DC 20426, (202) 502-8371.

Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00 p.m. Eastern Time on July 13, 2018.

For your convenience, there are three methods you can use to file your comments with the Commission. In all instances please reference the applicable project docket number (CP18-37 and/or CP18-38) with your submission. The Commission encourages electronic filing of comments and has staff available to assist you at (866) 208-3676 or FercOnlineSupport@ferc.gov.

(1) You can file your comments electronically using the eComment feature located on the Commission's website (www.ferc.gov) under the link to Documents and Filings. Using eComment is an easy method for submitting brief, text-only comments on a project;

(2) You can also file your comments electronically using the eFiling feature located on the Commission's website (www.ferc.gov) under the link to Documents and Filings. With eFiling, you can provide comments in a variety of formats by attaching them as a file with your submission. New eFiling users must first create an account by clicking on eRegister. You must select the type of filing you are making. A comment on a particular project is considered a “Comment on a Filing”; or

(3) You can file a paper copy of your comments by mailing them to the following address: Kimberly D. Bose, Secretary, Federal Energy Regulatory Commission, 888 First Street NE, Room 1A, Washington, DC 20426.

Any person seeking to become a party to the proceeding must file a motion to intervene pursuant to Rule 214 of the Commission's Rules of Practice and Procedures (18 CFR 385.214). Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Additional information about the project is available from the Commission's Office of External Affairs, at (866) 208-FERC, or on the FERC website (www.ferc.gov) using the eLibrary link. Click on the eLibrary link, click on General Search, and enter the docket number in the Docket Number field, excluding the last three digits (i.e., CP18-37). Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: June 13, 2018.
Kimberly D. Bose,
Secretary.

[FR Doc. 2018-13193 Filed 6-19-18; 8:45 am]

BILLING CODE 6717-01-P